TENNESSEE VALLEY AUTHORITY

Paperwork Reduction Act of 1995, as Amended; Proposed Collection, Comment Request

AGENCY: Tennessee Valley Authority.

ACTION: Notice.

SUMMARY: The proposed information collection described below will be submitted to the Office of Management and Budget (OMB) for review, as required by the Paperwork Reduction Act of 1995 (44 U.S.C. Chapter 35, as amended). The Tennessee Valley Authority is soliciting public comments on this proposed collection as provided by 5 CFR Section 1320.8(d)(1).

FOR FURTHER INFORMATION CONTACT: Requests for information, including copies of the information collection proposed and supporting documentation, should be directed to the Agency Clearance Officer: Mark Winter, Tennessee Valley Authority, 1101 Market Street (MP-3C), Chattanooga, Tennessee 37402-2801; (423) 751-6004.

DATES: Comments should be sent to the Agency Clearance Officer, or to OMB Office of Information & Regulatory Affairs, Attention: Desk Officer for Tennessee Valley Authority, Washington, DC 20503, no later than August 4, 2011.

SUPPLEMENTARY INFORMATION: Type of Request: Regular Submission.

Title of Information Collection: EnergyRight® Program.

Frequency of Use: On occasion.

Type of Affected Public: Individuals or households.

Small Businesses or Organizations Affected: No.

Federal Budget Functional Category Code: 271.

Estimated Number of Annual Responses: 29,000.

Estimated Total Annual Burden Hours: 8,700.

Estimated Average Burden Hours per Response: .3.

Need For and Use of Information: This information is used by distributors of TVA power to assist in identifying and financing energy improvements for their electrical energy customers.

Michael T. Tallent,
Director, Enterprise Information Security and Policy (Acting).

[FR Doc. 2011-16680 Filed 7-1-11; 8:45 am]

BILLING CODE 8120-08-P